DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

The Family Treatment Drug Court Evaluation—New—The Substance Abuse and Mental Health Administration's (SAMHSA) Center for Substance Abuse Treatment (CSAT) will conduct an evaluation of Family Treatment Drug Courts. The Family Treatment Drug Court Evaluation will examine the effectiveness of family treatment drug courts in four settings: Suffolk County, New York; Washoe County, Nevada; San Diego County, California; and Santa Clara County, California. The study will employ a multi-method, quasi-experimental research design to investigate several key child welfare outcomes for family treatment drug courts as compared to traditional case processing, including whether the time to permanency for children is different in a family treatment drug court program than in traditional case processing.

In addition, the study will investigate rates of reunification and termination of parental rights; types, frequency, and length of out-of-home placements; and child welfare recidivism. The study will investigate the key mediators of program success, including the effect of family treatment drug courts on treatment access, treatment completion, parent motivation, and family well-being, among other key mediators.

The project consists of an outcome evaluation that includes administrative data collection and client interviews with a sample of treatment and comparison participants. The target population for the family treatment drug court consists of substance abusing parents who have a current child abuse or neglect case. The outcome evaluation will document whether family treatment drug courts are more effective than traditional court settings in decreasing the time needed to reach permanent placements for children; increasing the frequency of successful parent-child reunifications and decreasing the frequency of terminations of parental rights; decreasing the time children spend in foster care; and reducing child welfare recidivism. An intent-to-treat sampling model will be used for the treatment groups at each site during a 2-year recruitment window. Comparison groups will be recruited in two of the four sites; no comparison group will be used in San Diego and Santa Clara because the counties have implemented a system-wide reform. Interview data will be sought from all persons included in the administrative datasets in Suffolk and Washoe Counties, and from a sample of individuals included in the San Diego and Santa Clara County administrative datasets.

Interview participants will take part in a baseline interview within one month of their dispositional hearing and three follow-up interviews. Follow-up One will take place six months later, Follow-Up Two will take place 12 months after baseline, and Follow-Up Three will take place 18 months after baseline. The interview tool will assess participants' perceptions of the services they are receiving and their interactions with the court, treatment, and child welfare systems; their understanding of what they need to do in order to be reunified with their children; and their feelings of empowerment and control over the process. Each interview will last approximately one hour. Administrative data, including child welfare and treatment data, will be collected up to 24 months after baseline to ascertain the type, frequency, and timeliness of services received and to capture the crucial child welfare outcomes of interest, including the timing and type of permanency plans for children, the length of time children spend in foster care, and subsequent involvement in the child welfare system.

The following table summarizes response burden for this project. There will be fewer 18-month interviews due to the length of the study recruitment window; only those individuals who enter the study in the first half of the recruitment window will have the full 18-month follow-up.

Instrument | Number of respondents | Responses per respondent | Burden per response (hrs) | Total burden hours
Initial telephone contact | 596 | 1 | 0.17 | 101
Baseline | 596 | 1 | 1.5 | 894
6-month follow-up | 596 | 1 | 1 | 596
12-month follow-up | 596 | 1 | 1 | 596
18-month follow-up | 447 | 1 | 1 | 447
3-month tracking call | 596 | 1 | 0.08 | 48
9-month tracking call | 596 | 1 | 0.08 | 48
15-month tracking call | 447 | 1 | 0.08 | 36
Quality assurance calls | 110 | 1 | 0.17 | 19
Total | 596 |  |  | 2,785
3 Year annual average | 596 |  |  | 928

Written comments and recommendations concerning the proposed information collection should be sent within 30 days of this notice to: Allison Herron Eydt, Human Resources and Housing Branch, Office of Management and Budget, New Executive Office Building, Room 10235, Washington, DC 20503; due to potential delays in OMB's receipt and processing of mail sent through the U.S. Postal Service, respondents are encouraged to submit comments by fax to: 202-395-6974.

Dated: July 7, 2003.
Anna Marsh,
Acting Executive Officer, SAMHSA.

[FR Doc. 03-17698 Filed 7-11-03; 8:45 am]

BILLING CODE 4162-20-P